DEPARTMENT OF TRANSPORTATION

Federal Aviation Administration

14 CFR Part 39

[Docket No. FAA-2014-0572; Directorate Identifier 2014-NM-027-AD]

RIN 2120-AA64

Airworthiness Directives; The Boeing Company Airplanes

AGENCY: Federal Aviation Administration (FAA), DOT.

ACTION: Notice of proposed rulemaking (NPRM).

SUMMARY: We propose to supersede Airworthiness Directive (AD) 98-22-10, which applies to certain The Boeing Company Model 737-100, -200, -200C, and -300 series airplanes. AD 98-22-10 currently requires repetitive inspections for cracking of the aft frame and frame support structure of the forward service doorway, and repair if necessary. AD 98-22-10 also provides for an optional terminating action for the repetitive inspection requirements of that AD. Since we issued AD 98-22-10, we have determined that additional inspections are needed, and that additional airplanes may be subject to the identified unsafe condition. This proposed AD would add inspections and add airplanes to the applicability. For certain airplanes, this proposed AD provides a preventive modification, which would terminate the repetitive inspections. We are proposing this AD to detect and correct fatigue cracking of the aft frame and frame support structure of the forward service doorway around the six doorstop fittings, which could result in door deflection and loss of pressurization.

DATES: We must receive comments on this proposed AD by October 10, 2014.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Boeing Commercial Airplanes, Attention: Data & Services Management, P.O. Box 3707, MC 2H-65, Seattle, WA 98124-2207; telephone 206-544-5000, extension 1; fax 206-766-5680; Internet https://www.myboeingfleet.com. You may review this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0572; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Alan Pohl, Aerospace Engineer, Airframe Branch, ANM-120S, FAA, Seattle Aircraft Certification Office, 1601 Lind Avenue SW., Renton, WA 98057-3356; phone 425-917-6450; fax 425-917-6590; email: alan.pohl@faa.gov.

SUPPLEMENTARY INFORMATION:

Comments Invited

We invite you to send any written relevant data, views, or arguments about this proposed AD. Send your comments to an address listed under the ADDRESSES section. Include “Docket No. FAA-2014-0572; Directorate Identifier 2014-NM-027-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On October 19, 1998, we issued AD 98-22-10, Amendment 39-10858 (63 FR 57240, October 27, 1998), for certain The Boeing Company Model 737-100, -200, -200C, and -300 series airplanes. AD 98-22-10 requires repetitive inspections to detect cracking of the aft frame and aft frame support structure of the forward service doorway, and repair if necessary. AD 98-22-10 resulted from reports of fatigue cracking of the aft frame and frame support structure of the forward service doorway. We issued AD 98-22-10 to prevent fatigue cracking of the aft frame and frame support structure of the forward service doorway, which could result in loss of the door, and consequent rapid decompression of the fuselage.

Tables 9 through 12 in paragraph 1.E., “Compliance,” of Boeing Alert Service Bulletin 737-53A1108, Revision 7, dated July 7, 2014, specify post-repair inspections, which may be used in support of compliance with section 121.1109(c)(2) or 129.109(b)(2) of the Federal Aviation Regulations (14 CFR 121.1109(c)(2) or 129.109(b)(2)). However, this NPRM does not propose to require those post-repair inspections. This difference has been coordinated with Boeing.

Actions Since AD 98-22-10, Amendment 39-10858 (63 FR 57240, October 27, 1998), Was Issued

Since we issued AD 98-22-10, Amendment 39-10858 (63 FR 57240, October 27, 1998), we received reports of cracking in the forward galley service doorway surround structure between body station (STA) 332.1 and STA 344, which are outside the inspection area of AD 98-22-10, and we have received reports that cracking has been discovered on airplanes outside the applicability of AD 98-22-10. We have determined that additional inspections are needed, and that additional airplanes are subject to the identified unsafe condition.

Relevant Service Information

We reviewed Boeing Alert Service Bulletin 737-53A1108, Revision 7, dated July 7, 2014. For information on the procedures and compliance times, see this service information at http://www.regulations.gov by searching for and locating Docket No. FAA-2014-0572.

FAA's Determination

We are proposing this AD because we evaluated all the relevant information and determined the unsafe condition described previously is likely to exist or develop in other products of the same type design.

Proposed AD Requirements

Although this proposed AD does not explicitly state the requirements of AD 98-22-10, Amendment 39-10858 (63 FR 57240, October 27, 1998), this proposed AD would retain certain requirements of AD 98-22-10. Those requirements are referenced in the service information identified previously, which, in turn, is referenced in paragraphs (g) and (h) of this proposed AD. This proposed AD would require additional inspections and add airplanes to the applicability. This proposed AD would require accomplishing the actions specified in the service information described previously, except as discussed under “Differences Between This Proposed AD and the Service Information.”

The phrase “related investigative actions” is used in this proposed AD. “Related investigative actions” are follow-on actions that (1) are related to the primary actions, and (2) further investigate the nature of any condition found. Related investigative actions in an AD could include, for example, inspections.

The phrase “corrective actions” is used in this proposed AD. “Corrective actions” correct or address any condition found. Corrective actions in an AD could include, for example, repairs.

Differences Between This Proposed AD and the Service Information

Where Boeing Alert Service Bulletin 737-53A1108, Revision 7, dated July 7, 2014, specifies to contact the manufacturer for instructions on how to repair certain conditions, this proposed AD would require repairing those conditions in one of the following ways:

• In accordance with a method that we approve; or

• Using data that meet the certification basis of the airplane, and that have been approved by the Boeing Commercial Airplanes Organization Designation Authorization (ODA) whom we have authorized to make those findings.

Costs of Compliance

We estimate that this proposed AD affects 419 airplanes of U.S. registry. We estimate the following costs to comply with this proposed AD:

Estimated Costs for Required Actions
Action | Labor cost | Parts cost | Cost per product | Cost on U.S. operators
Inspection | Up to 28 work-hours × $85 per hour = $2,380 per inspection cycle | None | Up to $2,380 per inspection cycle | Up to $997,220 per inspection cycle.

Estimated Costs for Optional Modification
Action | Labor cost | Parts cost | Cost per product
Repair/preventive modification | 12 to 17 work-hours × $85 per hour = up to $1,445 | $90 to $913 | Up to $2,358.

We have received no definitive data that would enable us to provide cost estimates for any on-condition actions specified in this proposed AD. We have no way of determining the number of aircraft that might need this repair.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This proposed regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 98-22-10, Amendment 39-10858 (63 FR 57240, October 27, 1998), and adding the following new AD:

The Boeing Company: Docket No. FAA-2014-0572; Directorate Identifier 2014-NM-027-AD.

(a) Comments Due Date

The FAA must receive comments on this AD action by October 10, 2014.

(b) Affected ADs

This AD supersedes AD 98-22-10, Amendment 39-10858 (63 FR 57240, October 27, 1998).

(c) Applicability

This AD applies to The Boeing Company Model 737-100, -200, -200C, -300, -400, and -500 series airplanes, certificated in any category, as identified in Boeing Alert Service Bulletin 737-53A1108, Revision 7, dated July 7, 2014.

(d) Subject

Air Transport Association (ATA) of America Code 53, Fuselage.

(e) Unsafe Condition

This AD was prompted by reports of fatigue cracking of the aft frame and frame support structure of the forward service doorway around the six doorstop fittings; a determination that additional inspections are needed; and that additional airplanes may be subject to the identified unsafe condition. We are issuing this AD to detect and correct fatigue cracking of the aft frame and frame support structure of the forward service doorway around the six doorstop fittings, which could result in door deflection and loss of pressurization.

(f) Compliance

Comply with this AD within the compliance times specified, unless already done.

(g) Inspections and Corrective Actions

At the applicable times specified in tables 1 through 6 of paragraph 1.E., “Compliance,” of Boeing Alert Service Bulletin 737-53A1108, Revision 7, dated July 7, 2014, except as required by paragraph (j)(1) of this AD: Do detailed inspections of the frame web between body station (STA) 332.1 and STA 344, intercostal T-brackets, intercostal T-chords, intercostals, and stringers, as applicable; and do high frequency eddy current (HFEC) inspections for cracking of door stop intercostal T-brackets, intercostal web, door stop intercostal T-chords, intercostals, and stringers, as applicable; and do all applicable related investigative and corrective actions; in accordance with the Accomplishment Instructions of Boeing Alert Service Bulletin 737-53A1108, Revision 7, dated July 7, 2014, except as required by paragraph (j)(2) of this AD. Do all applicable related investigative and corrective actions before further flight. Repeat the inspections at the applicable times specified in tables 1 through 6 of paragraph 1.E., “Compliance,” of Boeing Alert Service Bulletin 737-53A1108, Revision 7, dated July 7, 2014, until a terminating action specified in paragraph (h) of this AD is done.

(h) Optional Terminating Action

For Group 1, Configuration 1; Group 1, Configuration 2; Group 2; Group 3; Group 4, Configuration 1; and Group 4, Configuration 2 airplanes identified in Boeing Alert Service Bulletin 737-53A1108, Revision 7, dated July 7, 2014: Accomplishment of a preventative modification in accordance with Part 5 of Boeing Alert Service Bulletin 737-53A1108, Revision 7, dated July 7, 2014, terminates the repetitive inspections required by paragraph (g) of this AD.

(i) Inspections and Corrective Actions for Group 5 Airplanes

For Group 5 airplanes identified in Boeing Alert Service Bulletin 737-53A1108, Revision 7, dated July 7, 2014: Within 120 days after the effective date of this AD, inspect and repair any cracking using a method approved in accordance with the procedures specified in paragraph (l) of this AD.

(j) Exceptions to the Service Information

(1) Where Boeing Alert Service Bulletin 737-53A1108, Revision 7, dated July 7, 2014, specifies a compliance time “after the issue date of Revision 6 of this service bulletin,” this AD requires compliance within the specified time after the effective date of this AD.

(2) Where Boeing Alert Service Bulletin 737-53A1108, Revision 7, dated July 7, 2014, specifies to contact Boeing for repair instructions: Before further flight, repair the cracking using a method approved in accordance with the procedures specified in paragraph (l) of this AD.

(k) Credit for Previous Actions

This paragraph provides credit for the actions required by paragraphs (g) and (h) of this AD, if those actions were performed before the effective date of this AD using Boeing Alert Service Bulletin 737-53A1108, Revision 6, dated January 9, 2014.

(l) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (m)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane, and the approval must specifically refer to this AD.

(4) AMOCs approved for AD 98-22-10, Amendment 39-10858 (63 FR 57240, October 27, 1998), are approved as AMOCs for the corresponding provisions of this AD.

(5) Accomplishment of the preventative modification in accordance with Boeing Service Bulletin 737-53A1108, Revision 7, dated July 7, 2014, as required by paragraph (h) of this AD, is an AMOC to the structural modification specified in Boeing Service Bulletin 737-53A1108 that is required by paragraph A. of AD 90-06-02, Amendment 39-6489, (55 FR 8372, March 7, 1990).

(m) Related Information

(1) For more information about this AD, contact Alan Pohl, Aerospace Engineer, Airframe Branch, ANM-120S, FAA, Seattle Aircraft Certification Office, 1601 Lind Avenue SW., Renton, WA 98057-3356; phone 425-917-6450; fax 425-917-6590; email: alan.pohl@faa.gov.

(2) For service information identified in this AD, contact Boeing Commercial Airplanes, Attention: Data & Services Management, P. O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221.

Issued in Renton, Washington, on August 15, 2014.
Jeffrey E. Duven,
Manager, Transport Airplane Directorate, Aircraft Certification Service.

[FR Doc. 2014-20204 Filed 8-25-14; 8:45 am]

BILLING CODE P